DEPARTMENT OF COMMERCE

Patent and Trademark Office

Customer Input: United States Patent and Trademark Office Customer Surveys

ACTION: Proposed collection; comment request.

SUMMARY: The United States Patent and Trademark Office (USPTO), as part of its continuing effort to reduce paperwork and respondent burden, invites the general public and other Federal agencies to take this opportunity to comment on this extension of a continuing information collection, as required by the Paperwork Reduction Act of 1995, Public Law 104-13 (44 U.S.C. 3506(c)(2)(A)).

DATES: Written comments must be submitted on or before December 28, 2009.

ADDRESSES: You may submit comments by any of the following methods:

• E-mail: Susan.Fawcett@uspto.gov. Include “0651-0038 Customer Input: United States Patent and Trademark Office Customer Surveys comment” in the subject line of the message.

• Fax: 571-273-0112, marked to the attention of Susan K. Fawcett.

• Mail: Susan K. Fawcett, Records Officer, Office of the Chief Information Officer, Information Management Services, Data Management Division, U.S. Patent and Trademark Office, P.O. Box 1450, Alexandria, VA 22313-1450.

• Federal e-Rulemaking Portal: http://www.regulations.gov.

FOR FURTHER INFORMATION CONTACT: Requests for additional information should be directed to the attention of Martin Rater, Management Analyst, Office of Patent Quality Assurance, United States Patent and Trademark Office, P.O. Box 1450, Alexandria, VA 22313-1450; by telephone at 571-272-5966; or by e-mail at martin.rater@uspto.gov with “Paperwork” in the subject line.

SUPPLEMENTARY INFORMATION:

I. Abstract

This is a generic clearance for an undefined number of voluntary surveys that the United States Patent and Trademark Office (USPTO) may conduct over the next three years. The USPTO uses telephone surveys, questionnaires, and customer surveys to collect feedback from their customers.

With the exception of the telephone surveys, the surveys are mailed to the USPTO's customers. The USPTO provides the option for customers to respond to the questionnaires and surveys electronically. Although the USPTO is moving to an electronic environment and would prefer to administer the questionnaires and customer surveys wholly via the Web to coincide with other e-government initiatives, the USPTO's customers have requested that the surveys be made available in paper format as well since many of them only find the time to complete the surveys during their commutes, on planes, etc., where they do not have Internet access. Consequently, the surveys are primarily answered in the paper format.

Customers either access the survey in question through the USPTO's Web site or through the Web sites of the USPTO's survey contractors. Instructions for using the online surveys are provided in the cover letter that accompanies the survey. The cover letter also contains the username and password required to enter the survey site and the access code to activate the survey. The electronic version of the survey mirrors the paper version.

The surveys in this collection are designed to obtain customer feedback regarding products, services, and related service standards of the USPTO. At this time, the USPTO is unable to state precisely which survey vehicles will be used during the renewal period. As the USPTO's survey needs are determined, the USPTO will submit the specific survey instrument for approval.

II. Method of Collection

These surveys will either be conducted by telephone, mailed to the USPTO in a pre-addressed, self-stamped envelope, or completed electronically. A random sample is used to collect the data. Statistical methods will be followed.

III. Data

OMB Number: 0651-0038.

Form Number(s): N/A.

Type of Review: Extension of a currently approved collection.

Affected Public: Business or other for profits.

Estimated Number of Respondents: 1,900 responses per year.

Estimated Time per Response: The USPTO estimates that it will take the public approximately 15 minutes (0.25 hours) to complete the telephone surveys and 5 minutes (.08 hours) to complete the questionnaires and customer surveys, whether they are mailed to the USPTO or submitted electronically. This includes the time to gather the necessary information, complete the surveys, and submit them to the USPTO.

Estimated Total Annual Respondent Burden Hours: 220 hours.

Estimated Total Annual Respondent Cost Burden: $57,420. The USPTO believes that both professionals and paraprofessionals will complete these surveys, at a rate of 76% of the current professional rate of $310 ($236) per hour and 25% of the paraprofessional rate of $100 ($25) per hour. Using a combination of these rates, the USPTO is using an hourly rate of $261 to calculate the respondent costs. The USPTO estimates that the respondent cost burden for this collection will be $57,420 per year.

Item | Estimated time for response | Estimated annual responses | Estimated annual burden hours
Telephone Surveys | 15 minutes | 400 | 100
Questionnaires and Customer Surveys | 5 minutes | 750 | 60
Electronic Questionnaires and Customer Surveys | 5 minutes | 750 | 60
Total |  | 1,900 | 220
Note: The burden figures shown in the table above are estimates based on the surveys that the USPTO may conduct during the next three years. At this time, the USPTO cannot predict which or how many surveys will be conducted. Depending on the number of surveys that the USPTO actually conducts, it is possible that the burden hours could decrease or even increase from the totals shown in the table.

Estimated Total Annual Non-hour Respondent Cost Burden: $0. There are no capital start-up, maintenance, operation, or recordkeeping costs, nor are there any filing fees associated with this information collection. Although the USPTO conducts mail surveys, self-addressed and stamped envelopes are provided with them. Respondents incur no postage costs resulting from these surveys.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: October 20, 2009.
Susan K. Fawcett,
Records Officer, USPTO, Office of the Chief Information Officer, Information Management Services, Data Management Division.

[FR Doc. E9-25723 Filed 10-23-09; 8:45 am]

BILLING CODE 3510-16-P